DEPARTMENT OF HOMELAND SECURITY

Welcome to the DHS Enterprise e-Recruitment System

AGENCY: Office of the Chief Human Capital Officer, DHS.

ACTION: 30-day notice and request for comments; Information Collection submission for OMB Review; welcome to the DHS Enterprise e-Recruitment System.

SUMMARY: The Department of Homeland Security, Office of the Chief Human Capital Officer has submitted the following information collection request (ICR) to the Office of Management and Budget (OMB) for review and clearance in accordance with the Paperwork Reduction Act of 1995 (Pub. L. 104-13, 44 U.S.C. Chapter 35).

DATES: Comments are encouraged and will be accepted until May 11, 2009. This process is conducted in accordance with 5 CFR 1320.10.

ADDRESSES: Interested persons are invited to submit written comments on the proposed information collection to the Office of Information and Regulatory Affairs, Office of Management and Budget. Comments should be addressed to OMB Desk Officer, Department of Homeland Security, Office of the Chief Human Capital Officer, DHS, and sent via electronic mail to oira_submission@omb.eop.gov or faxed to (202) 395-6974.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: the Department of Homeland Security (DHS), Office of the Chief Human Capital Officer, Barbara Zakrison, 202-357-8147 (this is not a toll free number).

SUPPLEMENTARY INFORMATION: The Department of Homeland Security (DHS), Office of the Chief Human Capital Officer (OCHCO) is implementing an enterprise e-Recruitment system for DHS. The use of an automated recruitment solution is necessary to meet mission critical needs of DHS and comply with the 45-day hiring model under the President's Management Agenda.

Technology-enabled recruitment can deliver both time savings and improved results. Based on an internal inventory of DHS human resource (HR) systems, more than 50 systems are currently used by DHS components to perform hiring/recruitment related activities. As part of the effort to consolidate and modernize the HR systems, the OCHCO is leading an effort to consolidate towards an automated enterprise solution that can contribute to material improvements in the overall hiring process.

Working in close collaboration, OCHCO's Human Capital Business System (HCBS) and Human Capital units defined the key project goals. The overall vision for the e-Recruitment initiative is to implement a state-of-the-art system that automates hiring/recruitment processes across DHS and seamlessly integrates with other related DHS services.

Analysis

Agency: Department of Homeland Security, Office of the Chief Human Capital Officer.

Title: DHS Enterprise e-Recruitment System.

OMB Number: 1601-New.

Frequency: On-going collection.

Affected Public: All individuals anticipating applying for an employment opportunity with the Department of Homeland Security Headquarters Division.

Number of Respondents: 10,000.

Estimated Time per Respondent: 2 hours.

Total Burden Hours: 10,000 × 2 = 20,000.

Total Burden Cost (Capital/Startup): $20,341,958.00.

Total Burden Cost (Operating/Maintaining): $39,845,675.00.

Dated: April 1, 2009.
Margaret Graves,
Chief Information Officer.

[FR Doc. E9-8138 Filed 4-8-09; 8:45 am]

BILLING CODE 9110-9B-P